DEPARTMENT OF ENERGY

National Energy Technology Laboratory; Request for Information

AGENCY: National Energy Technology Laboratory, Department of Energy (DOE).

ACTION: Notice of request for information on the department's plan to implement FutureGen.

SUMMARY: On February 27, 2003, President Bush announced that the United States would sponsor a $1 billion, 10-year demonstration project to create the world's first coal-based, zero emissions power plant to produce electricity and hydrogen. As part of this announcement, Secretary of Energy Spencer Abraham unveiled plans for FutureGen—one of the boldest steps our Nation has taken toward a pollution-free energy future. This project will establish the technical and economic feasibility of producing electricity and hydrogen from coal—our lowest cost and most abundant domestic energy resource—while capturing and sequestering the carbon dioxide generated in the process. FutureGen will showcase cutting-edge technologies that can virtually eliminate environmental concerns associated with coal utilization. The ultimate success of FutureGen depends on acceptance of the concept of sequestration by the industries that will be most heavily impacted by potential future limitations on carbon emissions. Thus, the Department plans to noncompetitively enter into a cooperative agreement with a Consortium led by the coal-fired electric power industry and the coal production industry. Under the guidance of a Government Steering Committee, this Consortium will be responsible for the design, construction and operation of the FutureGen plant, and for the monitoring, measuring, and verifying of carbon dioxide sequestration. The members of the Consortium shall collectively own and produce at least one-third of the Nation's coal and at least one-fifth of its coal-fueled electricity. In addition to collectively owning and producing a large fraction of the Nation's coal and electricity, the Consortium is expected to: (a) Be geographically diverse by including both eastern and western domestic coal producers and coal-fueled electricity generators; and, (b) be resource diverse by including producers and users of the full range of coal types. The public's interest is best served by having this broad cross section of the coal and coal-fueled electricity industries involved in this project. The Department will require that the Consortium use fair and open competition to select the host site; engineering, design, and construction services; and major equipment modules.

DATES: Comments shall be received no later than June 16, 2003 at the address below. Confidential information contained within a submission should be identified and marked accordingly. The Department will protect confidential information to the extent permitted by law.

ADDRESSES: The Department seeks public comment regarding its plans for implementing FutureGen. Groups who collectively own and produce at least one-third of the Nation's coal and one-fifth of its coal-based electricity, and who are interested in establishing a Consortium, are invited to submit comments of no more than ten pages that include the group's (a) name, telephone number, mailing address, and e-mail address; (b) interest in participating in FutureGen; and, (c) technical and financial ability and commitment to pursue the FutureGen project including qualifications of key team members.

In addition, any other interested party is invited to submit no more than five pages of comments on any aspect of the Government's proposed plans (as described herein) to implement FutureGen. Such submissions should include the party's name, telephone number, mailing address, and e-mail address. In formulating the path forward for implementing FutureGen, the Department will consider all comments received. It will also prepare a report containing a synopsis of comments. The report will be posted on the Fossil Energy Web site.

Interested parties may submit their comments by e-mail or by regular mail to: Keith R. Miles, U.S. Department of Energy, National Energy Technology Laboratory, PO Box 10940, MS 921-107, Pittsburgh, PA 15236, E-mail Address: miles@netl.doe.gov.

FOR FURTHER INFORMATION CONTACT: Keith R. Miles, U.S. Department of Energy, National Energy Technology Laboratory, PO Box 10940, MS 921-107, Pittsburgh, PA 15236, E-mail Address: miles@netl.doe.gov.

SUPPLEMENTARY INFORMATION: An affordable, reliable, and environmentally sound supply of electricity is critical to our Nation's future. Coal provides over half of our Nation's electricity. However, coal-fired power plants also emit one-third of the U.S. anthropogenic carbon dioxide emissions. As a key step towards making significant reductions in these emissions, and preserve the security and cost benefits of using coal to produce electricity for our Nation, it is necessary to validate the engineering, economic, and environmental viability of coal-based systems to produce electricity with zero emissions. This is one of the key objectives of FutureGen.

Another FutureGen objective is to produce coal-based hydrogen with zero emissions. The production of hydrogen supports the President's Hydrogen Initiative. Using our abundant, readily available, low-cost coal to produce hydrogen—an environmentally superior transportation fuel—would help ensure America's energy security. Thus, FutureGen will also provide a zero emissions technology option for the transportation sector—a sector that accounts for another one-third of our Nation's anthropogenic carbon dioxide emissions.

The Department envisions that the FutureGen project will employ coal gasification technology to co-produce electricity and hydrogen. The size of the plant will nominally be 275 MW equivalent electricity output.

Power generation and hydrogen production will be integrated with the capture of carbon dioxide and its sequestration in deep underground geologic formation(s). The project will seek to sequester carbon dioxide emissions at an operating rate of one million metric tons (or more) of carbon dioxide sequestered per year. The project will also work with the appropriate domestic and international communities to establish standardized technologies and protocols for carbon dioxide measuring, monitoring, and verification. The Department anticipates placing separate contracts to independently validate carbon dioxide sequestration.

In addition, the plant will virtually eliminate environmental emissions associated with coal use, specifically nitrogen and sulfur oxides, particulate matter, and mercury. The plant will showcase cutting-edge technologies that can virtually eliminate environmental concerns associated with coal use. This includes establishing beneficial uses for coal utilization by-products from the plant.

The initial FutureGen plant configuration will incorporate cutting edge technologies to address scaling and integration issues for coal-based, zero emissions energy plants. The plant will also be operated as a research facility—it will test and validate additional advanced technologies as they emerge from research programs. These advanced technologies will offer the promise of clean environmental performance, at a reduced cost and increased reliability. Thus, FutureGen will be designed and constructed with the flexibility to conduct both full scale and slipstream tests of such advanced technology over the entire operational phase of the project. The large scale of FutureGen is driven by the need to adequately validate the engineering, economic, and environmental viability of coal-based, zero emissions technologies.

Global acceptance of the concept of coal-based systems integrated with sequestration technology is a key goal of FutureGen. Broad involvement in the FutureGen project is required to achieve this goal. Although membership of the Consortium will be limited to coal and coal-fueled electricity generation owners and producers, and while equipment and service vendors may participate through a competitive selection process for their goods and services, the Department expects the Consortium to encourage and provide mechanisms for future participation in the project, as appropriate, of interested parties such as state governments, regulators, and the environmental community. The Department also expects the Consortium to be an “open” consortium—working to expand its initial membership to one that is inclusive and open to other coal and coal-fueled electricity owners and producers.

The Consortium will be expected to contribute at least a 20 percent industry cost share. Terms and conditions of inclusion of additional domestic and foreign industrial coal producers and coal-fueled electricity generators will be determined by the Consortium. Foreign government participation in FutureGen will be subject to negotiations that are not contrary to the Department's terms and conditions established in its cooperative agreement with the Consortium.

Disclaimer: This Request for Information shall not be construed as a commitment by the Government to award a cooperative agreement at this time.

Issued in Pittsburgh, PA, on April 11, 2003.
Randolph Kesling,
Senior Management and Technical Advisor, Office of Business Logistics.

[FR Doc. 03-9704 Filed 4-18-03; 8:45 am]

BILLING CODE 6450-01-P